COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes products and services from the Procurement List previously furnished by such agencies.

DATES: Date added to and deleted from the Procurement List: September 20, 2020.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 3/27/2020, 5/1/2020 and 7/17/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s)

6515-01-NIB-2636—Exam Light, Tactical, For CLS 6545-01-677-4906 Only

Mandatory Source of Supply: Lighthouse Works, Orlando, FL

Contracting Activity: DEFENSE LOGISTICS AGENCY, DLA TROOP SUPPORT

NSN(s)—Product Name(s)

160001400S—ProPack, Rack and Hooks Kit, Army

Mandatory Source of Supply: Crowder Industries, Inc., Neosho, MO

Contracting Activity: DEPT OF THE ARMY, W6QK ACC-APG NATICK

Services

Service Type: Facility Maintenance Support

Mandatory for: U.S. Marshals Service, William F. Degan Tactical Operations Center, Pineville, LA

Mandatory Source of Supply: Rising Star Resource Development Corporation, Dallas, TX

Contracting Activity: U.S. MARSHALS SERVICE, U.S. DEPT OF JUSTICE, USMS

Deletions

On 6/26/2020 and 7/17/2020, the Committee for Purchase From People Who Are Blind or Severely Disabled published notice of proposed deletions from the Procurement List. This notice is published pursuant to 41 U.S.C. 8503 (a)(2) and 41 CFR 51-2.3.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s)

3030-01-017-4340—Belt, V-shaped, EPDM Rubber, Notched/A2 Cog, Neoprene, 38.3”

3030-01-146-7057—Joined Belt, V-shaped, EPDM Rubber, VA Cross Section, Notched/A2 Cog, Neoprene, 47.96”

3030-01-200-6004—Belt, V-shaped, Joined, EPDM Rubber, RA Cross Section, Notched/A2 Cog, 42.53”

3030-01-387-5760—Belt, V-shaped, EPDM Rubber, HC41 Cross Section, Notched/A2 Cog, Neoprene, 34.58”

Mandatory Source of Supply: East Texas Lighthouse for the Blind, Tyler, TX

Contracting Activity: DLA LAND AND MARITIME, COLUMBUS, OH

NSN(s)—Product Name(s)

7520-01-483-8993—Stand, Calendar Pad, for 3” × 3-3/4” refill, Black

Mandatory Source of Supply: LC Industries, Inc., Durham, NC

Contracting Activity: GSA/FAS ADMIN SVCS ACQUISITION BR(2, NEW YORK, NY

NSN(s)—Product Name(s)

4220-00-926-9468—Vest, Life Preserver, USN, Red, Medium

Mandatory Source of Supply: Mississippi Industries for the Blind, Jackson, MS

Contracting Activity: DLA TROOP SUPPORT, PHILADELPHIA, PA

NSN(s)—Product Name(s)

4220-00-926-9468—Vest, Life Preserver, USN, Red, Medium

Mandatory Source of Supply: Lions Volunteer Blind Industries, Inc., Morristown, TN

Contracting Activity: DLA TROOP SUPPORT, PHILADELPHIA, PA

NSN(s)—Product Name(s)

MR 402—Bag, Shopping Tote, Laminated, Small, “Live Sweet”

MR 403—Bag, Shopping Tote, Laminated, Small, “Live Well”

MR 404—Bag, Shopping Tote, Laminated, Large, “Live Spicy”

MR 405—Bag, Shopping Tote, Laminated, Fresh, “Live Fresh”

MR 406—Bag, Shopping Tote, Laminated, Large, “Live Sweet”

Mandatory Source of Supply: Industries for the Blind and Visually Impaired, Inc., West Allis, WI

Contracting Activity: Military Resale-Defense Commissary Agency

Services

Service Type: Administrative Services

Mandatory for: Milwaukee Federal Building and U.S. Courthouse, Milwaukee, WI

Mandatory Source of Supply: Milwaukee Center for Independence, Inc., Milwaukee, WI

Contracting Activity: GENERAL SERVICES ADMINISTRATION, FPDS AGENCY COORDINATOR

Service Type: Janitorial/Custodial

Mandatory for: Internal Revenue Service: 11631 Caroline Road, Philadelphia, PA

Mandatory Source of Supply: UNKNOWN

Contracting Activity: TREASURY, DEPARTMENT OF THE, DEPT OF TREAS/

Service Type: Telephone/Switchboard Operator

Mandatory for: VA Northern California Health Care System, Martinez, CA

Mandatory Source of Supply: Project Hired, San Jose, CA

Contracting Activity: VETERANS AFFAIRS, DEPARTMENT OF, 261-NETWORK CONTRACT OFFICE 21

Service Type: Telephone/Switchboard Operator

Mandatory for: Department of Veterans Affairs, VA Northern California Health Care System, 10535 Hospital Way, Sacramento, CA

Mandatory Source of Supply: Project Hired, San Jose, CA

Contracting Activity: VETERANS AFFAIRS, DEPARTMENT OF, 261-NETWORK CONTRACT OFFICE 21

Service Type: Document Destruction

Mandatory for: VA North Clinic: 916 W Owens Avenue, Las Vegas, NV

Mandatory for: VA Central Clinic: 901 Rancho Lane, Las Vegas, NV

Mandatory for: VA Administration: 1841 E. Craig Road, Ste. B Warehouse, Las Vegas, NV

Mandatory for: VA Administration #2: 2455 W. Cheyenne, Ste. 102, Las Vegas, NV

Mandatory for: VA West Clinic: 630 S Rancho Road, Las Vegas, NV

Mandatory for: VA Loma Linda Healthcare System: 11201 Benton Street, Loma Linda, CA

Mandatory Source of Supply: Goodwill Industries of Southern California, Panarama City, CA

Contracting Activity: VETERANS AFFAIRS, DEPARTMENT OF, NAC

Service Type: Janitorial/Custodial

Mandatory for: Defense Enterprise Computing Center (DECC) Mechanicsburg: Building 504B, Mechanicsburg, PA

Mandatory for: Defense Enterprise Computing Center (DECC) Mechanicsburg: Building 309T, Mechanicsburg, PA

Mandatory Source of Supply: Goodwill Services, Inc., Harrisburg, PA

Contracting Activity: DEFENSE INFORMATION SYSTEMS AGENCY (DISA), IT CONTRACTING DIVISION-PL83

Michael R. Jurkowski,
Deputy Director, Business & PL Operations.

[FR Doc. 2020-18361 Filed 8-20-20; 8:45 am]

BILLING CODE 6353-01-P